ENVIRONMENTAL PROTECTION AGENCY

40 CFR Part 98

[EPA-HQ-OAR-2008-0508; FRL-9143-5]

RIN 2060-AQ15

Mandatory Reporting of Greenhouse Gases: Minor Harmonizing Changes to the General Provisions

AGENCY: Environmental Protection Agency (EPA).

ACTION: Withdrawal of direct final rule.

SUMMARY: Because EPA received comments which could be construed as adverse, we are withdrawing the direct final rule to amend the general provisions for the Mandatory Greenhouse Gas (GHG) Reporting Rule, published on March 16, 2010.

DATES: Effective April 30, 2010, EPA withdraws the direct final rule published at 75 FR 12451 on March 16, 2010.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov.

SUPPLEMENTARY INFORMATION: On March 16, 2010, we published a direct final rule (75 FR 12451) and a parallel proposal (75 FR 12489) amending the general provisions for the GHG Reporting Rule. These amendments were issued as a direct final rule, along with a parallel proposal to be used as the basis for final action in the event EPA received any adverse comments on the direct final amendments. Because EPA received comments which could be construed as adverse, we are withdrawing the direct final rule to amend the general provisions for the Mandatory GHG Reporting Rule, published on March 16, 2010. We stated in that direct final rule that if we received adverse comment by April 15, 2010, the direct final rule would not take effect and we would publish a timely withdrawal in the Federal Register. We subsequently received comments that could be construed as adverse on that direct final rule. We will address those comments in a subsequent final action based on the parallel proposal published on March 16, 2010 (75 FR 12489). As stated in the direct final rule and the parallel proposed rule, we will not institute a second comment period on this action.

List of Subjects in 40 CFR Part 98

Environmental protection, Administrative practice and procedure, Greenhouse gases, Suppliers, Reporting and recordkeeping requirements.

Dated: April 23, 2010.
Gina McCarthy,
Assistant Administrator for Office of Air and Radiation.

Accordingly, the amendments to the rule published in the Federal Register on March 16, 2010 (75 FR 12451) are withdrawn as of April 30, 2010.

[FR Doc. 2010-10147 Filed 4-29-10; 8:45 am]

BILLING CODE 6560-50-P